DEPARTMENT OF HEALTH AND HUMAN SERVICES

Centers for Disease Control and Prevention

[30Day-06-0513]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

The second Injury Control and Risk Survey (ICARIS-2)—Phase 2—Reinstatement with change—The National Center for Injury Prevention and Control (NCIPC), Centers for Disease Control and Prevention (CDC).

Background and Brief Description

Injuries are a major cause of premature death and disability with associated economic costs of over 150 billion dollars in lifetime costs for persons injured each year. This project will use data from a telephone survey to measure injury-related risk factors and guide injury prevention and control priorities including those identified as priorities in Healthy People 2010 objectives for the nation. This project will build on previous efforts.

The first Injury Control and Risk Survey (ICARIS), conducted in 1994, was a random digit dial telephone survey that collected injury risk factor and demographic data on 5,238 English- and Spanish-speaking adults (greater than or equal to 18 years old) in the United States. Proxy data were collected on 3,541 children <15 years old. More than a dozen peer-reviewed scientific reports have been published from the ICARIS data on subjects including dog bites, bicycle helmet use, residential smoke detector usage and fire escape practices, attitudes toward violence, suicidal ideation and behavior, and compliance with pediatric injury prevention counseling.

The ICARIS survey was followed by the ICARIS-2 Phase-1 survey, which was initiated as a means for monitoring the injury risk factor status of the nation at the start of the millennium. ICARIS-2 Phase-1 was also conducted as a national telephone survey. Data collection on almost 10,000 respondents was completed in early 2003, and analyses are still ongoing.

The planned ICARIS-2 Phase-2 survey will be implemented to expand knowledge in areas that investigators were previously unable to explore fully. Data will be collected on new aspects of topics covered in Phase-1 (such as firearm ownership and access, and suicide), and new questions will be introduced in areas that were not previously addressed, such as older adult mobility, the supervision of children, injury and disability, and the incidence of traumatic brain injury. The Phase-2 data will be analyzed in conjunction with ICARIS-2 Phase-1 data and the data from the original baseline ICARIS survey to measure changes in risk factors and to gauge the impact of injury prevention policies. The ICARIS-2 Phase-2 survey may also serve as the only readily available source of data to measure several of the Healthy People 2010 injury prevention objectives. There are no costs to respondents other than their time. The total estimated annualized burden is 620 hours.

Estimate of Annualized Burden Hours
Type of respondent | Form name | Number of respondents | Number of responses per respondent | Average burden per response (in hours)
Ineligible | Screening | 500 | 1 | 1/60
Unknown or unverified eligibility | Screening | 900 | 1 | 0.5/60
Eligible but unable to reach | Screening | 200 | 4 | 6/60
Eligible non-respondent | Screening | 450 | 1 | 1.5/60
Partial interview | Screening and CATI | 75 | 1 | 10/60
Completed interview | Screening and CATI | 2,000 | 1 | 15/60

Dated: July 13, 2006.
Joan F. Karr,
Acting Reports Clearance Officer, Centers for Disease Control and Prevention.

[FR Doc. E6-12218 Filed 7-28-06; 8:45 am]

BILLING CODE 4163-18-P